DEPARTMENT OF STATE

[Public Notice 5930]

Advisory Panel to the United States Section of the North Pacific Anadromous Fish Commission; Notice of Public Meeting

The Advisory Panel to the United States Section of the North Pacific Anadromous Fish Commission will meet on September 27, 2007, via conference call. This session will involve discussion of the Fifteenth Annual Meeting of the North Pacific Anadromous Fish Commission, to be held on October 8-12, 2007 in Valdivostok, Russia. The discussion will begin at 3:30 p.m. EST and is open to the public.

Requests for the conference call-in phone number or for further information on the meeting should be directed to Ms. Nicole M. Ricci, Office of Marine Conservation (OES/OMC), Room 2758, U.S. Department of State, Washington, DC 20520-7818. Ms. Ricci can be reached by telephone at (202) 647-1073 or by Fax (202) 736-7350.

Dated: August 28, 2007.
David A. Balton,
Deputy Assistant Secretary for Oceans and Fisheries, Department of State.

[FR Doc. E7-17879 Filed 9-10-07; 8:45 am]

BILLING CODE 4710-05-P